DEPARTMENT OF TRANSPORTATION

Maritime Administration

[USCG-2006-24644]

TORP Terminal LP, Bienville Offshore Energy Terminal Liquefied Natural Gas Deepwater Port License Application; Preparation of Supplemental Environmental Impact Statement

AGENCY: Maritime Administration, DOT.

ACTION: Notice of availability; Notice of public meeting; Request for comments; Correction.

SUMMARY: On November 20, 2009, the Maritime Administration, in cooperation with the U.S. Coast Guard, published in the Federal Register a Notice of Availability of the Draft Supplemental Environmental Impact Statement (DSEIS) for the amended TORP Terminal LP Bienville Offshore Energy Terminal (BOET) Liquefied Natural Gas Deepwater Port license application. Comments on the DSEIS are due by January 4, 2010, 45 days from issuance of the DSEIS. Please note that the DSEIS contained two references to a 30 day comment period, which should be corrected as follows: (1) On the front signature page of the BOET DSEIS, the correct date by which comments must be received should be January 4, 2010; (2) on page 1-10, the correct duration of the comment period should be 45 days.

DATES: The date of the public meeting is unchanged. The public meeting will be held on December 9, 2009 in Mobile, Alabama. The public meeting will be held from 6 p.m. to 8 p.m. and will be preceded by an informational open house from 5 p.m. to 6 p.m. Depending on the number of persons wishing to speak, the public meeting may end later than the stated time.

Material submitted in response to the request for comments on the DSEIS and application must reach the Docket Management Facility by January 4, 2010.

ADDRESSES: The open house and public meeting in Mobile will be held at the Mobile Convention Center, One South Water Street, Mobile, Alabama 36602; telephone: 251-208-2100.

The DSEIS, the application, comments and associated documentation are available for viewing at the Federal Docket Management System Web site: http://www.regulations.gov under docket number USCG-2006-24644.

Docket submissions for USCG-2006-24644 should be addressed to: Department of Transportation, Docket Management Facility, West Building, Ground Floor, Room W12-140, 1200 New Jersey Avenue, SE., Washington, DC 20590-0001.

The Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Mr. Patrick Marchman, Maritime Administration, telephone: 202-366-8805, email: Patrick.Marchman@dot.gov; or Mr. Linden Houston, Maritime Administration, telephone: 202-366-4839, e-mail: Linden.Houston@dot.gov. If you have questions on viewing the docket, call Renee V. Wright, Program Manager, Docket Operations, telephone 202-493-0402.

(Authority 49 CFR 1.66)

By order of the Maritime Administrator.
Dated: December 7, 2009.
Christine Gurland,
Secretary, Maritime Administration.

[FR Doc. E9-29533 Filed 12-15-09; 8:45 am]

BILLING CODE 4910-81-P